SURFACE TRANSPORTATION BOARD

30-Day Notice of Intent To Seek Extension of Approval: Information Collection Activities—Recordations (Rail and Water Carrier Liens), Water Carrier Tariffs, and Agricultural Contract Summaries

AGENCY: Surface Transportation Board.

ACTION: Notice and request for comments.

SUMMARY: As required by the Paperwork Reduction Act of 1995 (PRA), the Surface Transportation Board (STB or Board) gives notice of its intent to seek approval from the Office of Management and Budget (OMB) for an extension of the collections required by statute for rail or water carrier equipment liens (recordations), water carrier tariffs, and rail agricultural contract summaries, described below. The Board previously published a notice about these collections in the Federal Register on December 12, 2019 (84 FR 67,991). That notice allowed for a 60-day public review and comment period. No comments were received.

DATES: Comments on these information collections should be submitted by March 30, 2020.

ADDRESSES: Written comments should be identified as “Paperwork Reduction Act Comments, Surface Transportation Board: Recordations (Rail and Water Carrier Liens), Water Carrier Tariffs, and Agricultural Contract Summaries.” These comments should be directed to the Office of Management and Budget, Office of Information and Regulatory Affairs, Attention: Michael J. McManus, Surface Transportation Board Desk Officer: by email at oira_submission@omb.eop.gov; by fax at (202) 395-1743; or by mail to Room 10235, 725 17th Street NW, Washington, DC 20503. Please also direct comments to Chris Oehrle, PRA Officer, Surface Transportation Board, 395 E Street SW, Washington, DC 20423-0001, or to PRA@stb.gov. For further information regarding this collection, contact Michael Higgins, Deputy Director, Office of Public Assistance, Governmental Affairs, and Compliance at (202) 245-0284 or at michael.higgins@stb.gov.

SUPPLEMENTARY INFORMATION: Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collections

Collection Number 1

Title: Agricultural Contract Summaries.

OMB Control Number: 2140-0024.

Form Number: None.

Type of Review: Extension without change.

Number of Respondents: Approximately 10 (seven Class I [large] railroads and a limited number of other railroads).

Frequency: On occasion. (Over the last three years, respondents have filed an average of 150 agricultural contract summaries per year. The same number of filings is expected during each of the next three years.)

Estimated Time per Response: Approximately 0.25 hours.

Total Burden Hours (annually including all respondents): 37.5 hours (150 submissions × 0.25 hours estimated per submission).

Total Annual “Non-hour Burden” Cost (such as start-up and mailing costs): There are no non-hourly burden costs for this collection.

Needs and Uses: Under 49 U.S.C. 10709(d), railroads are required to file a summary of the nonconfidential terms of any contract for the transportation of agricultural products.

Collection Number 2

Title: Recordations (Rail and Water Carrier Liens).

OMB Control Number: 2140-0025.

Form Number: None.

Type of Review: Extension without change.

Respondents: Parties holding liens on rail equipment or water carrier vessels, and carriers filing proof that a lien has been removed.

Number of Respondents: Approximately 50 respondents.

Frequency: On occasion. (Over the last three years, respondents have filed an average of 1,750 responses per year. The same number of filings is expected during each of the next three years.)

Estimated Time per Response: Approximately 0.25 hours.

Total Burden Hours (annually including all respondents): 437.5 hours (1,750 submissions × 0.25 hours estimated per response)

Total “Non-hour Burden” Cost (such as start-up and mailing costs): There are no non-hourly burden costs for this collection. The collection may be filed electronically.

Needs and Uses: Under 49 U.S.C. 11301 and 49 CFR part 1177, liens on rail equipment or water carrier vessels must be filed with the STB in order to perfect a security interest in the equipment. Subsequent amendments, assignments of rights, or release of obligations under such instruments must also be filed with the agency. This information is maintained by the Board for public inspection. Recordation at the STB obviates the need for recording the liens in individual States.

Collection Number 3

Title: Water Carrier Tariffs.

OMB Control Number: 2140-0026.

Form Number: None.

Type of Review: Extension without change.

Respondents: Water carriers that provide freight transportation in noncontiguous domestic trade.

Number of Respondents: Approximately 20.

Frequency: Annual certification.

Total Burden Hours (annually including all respondents): 80 hours (20 annual filings × 4 hours estimated time per certification).

Total “Non-Hour Burden” Cost (such as start-up costs and mailing costs): There are no non-hourly burden costs for this collection. The annual certifications will be submitted electronically.

Needs and Uses: Under 49 U.S.C. 13702(b) and 49 CFR part 1312, in lieu of individual tariffs, water carriers that provide freight transportation in noncontiguous domestic trade (i.e., shipments moving to or from Alaska, Hawaii, or the U.S. territories or possessions (Puerto Rico, Guam, the U.S. Virgin Islands, American Samoa, and the Northern Mariana Islands) to or from the mainland U.S.) may file an annual certification with the Board that includes the internet address of a website containing a list of current and historical tariffs (including prices and fees that the water carrier charges to the shipping public).

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: February 24, 2020.
Kenyatta Clay,
Clearance Clerk.

[FR Doc. 2020-03991 Filed 2-26-20; 8:45 am]

BILLING CODE 4915-01-P